DEPARTMENT OF TRANSPORTATION

Federal Aviation Administration

Office of Commercial Space Transportation; Notice of Availability of the Final Environmental Assessment and Finding of No Significant Impact for Pegasus Launches at Cape Canaveral Air Force Station, Florida

AGENCY: Federal Aviation Administration (FAA), Department of Transportation.

ACTION: Notice of Availability of Final Environmental Assessment and Finding of No Significant Impact.

SUMMARY: In accordance with the National Environmental Policy Act of 1969 (NEPA), 42 U.S.C. 4321-4347 (as amended), Council on Environmental Quality NEPA implementing regulations (40 Code of Federal Regulations [CFR] parts 1500 to 1508), and FAA Order 1050.1E, Change 1, the FAA is announcing the availability of the Final Environmental Assessment (Final EA) and Finding of No Significant Impact (FONSI) for Pegasus Launches at Cape Canaveral Air Force Station. The Final EA was prepared to address the potential environmental impacts of the FAA's Proposed Action for issuing or renewing Launch Operator Licenses to operate Pegasus launch vehicles at CCAFS. Activities addressed in the Final EA include carrier aircraft takeoff and landing from a CCAFS runway and launch of Pegasus vehicle at an altitude of 40,000 feet and approximately 90 nautical miles offshore over the Atlantic Ocean. The Final EA tiers from the Final Programmatic Environmental Impact Statement (PEIS) for Licensing Launches (2001 PEIS) and focuses on localized and site-specific effects of FAA issuing or renewing Launch Operator Licenses to operate Pegasus expendable launch vehicles at CCAFS. The 2001 PEIS, evaluated the launch impacts associated with four vehicle categories (small, medium, intermediate, and heavy-payload capacities); three propellant types (solid, liquid, and hybrid propellant); and three launch scenarios (land, air, and sea). The Pegasus launch vehicle falls within the parameters of the small-payload capacity vehicle using solid propellant to launch from the air. The 2001 PEIS evaluated the impacts of launching 72 small capacity rockets, including the Pegasus launch vehicle family, over a 10-year period. The estimated annual number of launches ranged from four to nine launches, with an average of seven annual launches. The rate of Pegasus launches at CCAFS under the FAA's Proposed Action would not be expected to exceed the rate of launches analyzed in the 2001 PEIS. The only alternative to the Proposed Action is the No Action Alternative. Under this Alternative, the FAA would not issue or renew Launch Operator Licenses to operate Pegasus launch vehicles at CCAFS.

Resource areas were considered to provide a context for understanding and assessing the potential environmental effects of the Proposed Action, with attention focused on key issues. The resources areas considered in the Final EA included air quality; biological resources (including fish, wildlife, and plants); compatible land use; Department of Transportation Section 4(f) resources; hazardous materials, pollution prevention, and solid waste; historical, architectural, archaeological, and cultural resources; noise; socioeconomic impacts; and water quality (including floodplains and wetlands). Potential cumulative impacts of the Proposed Action were also addressed in the Final EA.

After careful and thorough consideration of available data and information on existing conditions and potential impacts, the FAA has determined that there will be no significant short-term, long-term, or cumulative impacts to the environment or surrounding populations from the issuance or renewal of Launch Operator Licenses to operate Pegasus launch vehicles at CCAFS. The proposed Federal action is consistent with existing national environmental policies and objectives as set forth in Section 101 of NEPA and other applicable environmental requirements and will not significantly affect the quality of the human environment within the meaning of NEPA. Therefore, an Environmental Impact Statement for the Proposed Action is not required and the FAA issued a FONSI.

The FAA has posted the Final EA and FONSI on the FAA Office of Commercial Space Transportation Web site at http://www.faa.gov/about/office_org/headquarters_offices/ast/environmental/review/launch/.

FOR FURTHER INFORMATION CONTACT: Mr. Daniel Czelusniak, Environmental Program Lead, Office of Commercial Space Transportation, Federal Aviation Administration, 800 Independence Avenue, SW., Room 325, Washington, DC 20591, telephone (202) 267-5924; E-mail daniel.czelusniak@faa.gov.

Issued in Washington, DC, on March 1, 2011.
Michael McElligott,
Manager, Space Systems Development Division.

[FR Doc. 2011-5242 Filed 3-7-11; 8:45 am]

BILLING CODE 4310-13-P